DEPARTMENT OF COMMERCE

International Trade Administration

Antidumping or Countervailing Duty Order, Finding, or Suspended Investigation; Opportunity To Request Administrative Review

AGENCY: Import Administration, International Trade Administration, Department of Commerce.

FOR FURTHER INFORMATION CONTACT: Brenda E. Waters, Office of AD/CVD Operations, Customs Unit, Import Administration, International Trade Administration, U.S. Department of Commerce, 14th Street and Constitution Avenue NW., Washington, DC 20230, telephone: (202) 482-4735.

Background

Each year during the anniversary month of the publication of an antidumping or countervailing duty order, finding, or suspended investigation, an interested party, as defined in section 771(9) of the Tariff Act of 1930, as amended (“the Act”), may request, in accordance with 19 CFR 351.213, that the Department of Commerce (“the Department”) conduct an administrative review of that antidumping or countervailing duty order, finding, or suspended investigation.

All deadlines for the submission of comments or actions by the Department discussed below refer to the number of calendar days from the applicable starting date.

Respondent Selection

In the event the Department limits the number of respondents for individual examination for administrative reviews initiated pursuant to requests made for the orders identified below, the Department intends to select respondents based on U.S. Customs and Border Protection (“CBP”) data for U.S. imports during the period of review. We intend to release the CBP data under Administrative Protective Order (“APO”) to all parties having an APO within five days of publication of the initiation notice and to make our decision regarding respondent selection within 21 days of publication of the initiation Federal Register notice. Therefore, we encourage all parties interested in commenting on respondent selection to submit their APO applications on the date of publication of the initiation notice, or as soon thereafter as possible. The Department invites comments regarding the CBP data and respondent selection within five days of placement of the CBP data on the record of the review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after September 2012, the Department does not intend to extend the 90-day deadline unless the requestor demonstrates that an extraordinary circumstance has prevented it from submitting a timely withdrawal request. Determinations by the Department to extend the 90-day deadline will be made on a case-by-case basis.

The Department is providing this notice on its Web site, as well as in its “Opportunity to Request Administrative Review” notices, so that interested parties will be aware of the manner in which the Department intends to exercise its discretion in the future.

Opportunity To Request a Review: Not later than the last day of September 2012,¹ interested parties may request administrative review of the following orders, findings, or suspended investigations, with anniversary dates in September for the following periods:

¹ Or the next business day, if the deadline falls on a weekend, federal holiday or any other day when the Department is closed.

² This antidumping duty order was published on August 21, 2001. See 63 FR 43838. Pursuant to 19 CFR 351.102(b), 19 CFR 351.213(b) and Diamond Sawblades and Parts Thereof From the People's Republic of China and the Republic of Korea: Notice of Anniversary Month and First Opportunity To Request an Administrative Review, 75 FR 969, January 7, 2010, August is the correct anniversary month. We included this order in the August opportunity notice. See 77 FR 45580. Because we have previously treated this order as an order with an anniversary date in September, we are also including it in this year's September opportunity notice so as not to disadvantage any parties. In the future, however, we intend to include this order in the August opportunity notice.

| Period of review
Antidumping Duty Proceedings
Belarus: Steel Concrete Reinforcing Bars, A-822-804 | 9/1/11—8/31/12
India: Certain Lined Paper Products, A-533-843 | 9/1/11—8/31/12
Indonesia:
Certain Lined Paper Products, A-560-818 | 9/1/11—8/31/12
Steel Concrete Reinforcing Bars, A-560-811 | 9/1/11—8/31/12
Italy: Stainless Steel Wire Rod, A-475-820 | 9/1/11—8/31/12
Japan: Stainless Steel Wire Rod, A-588-843 | 9/1/11—8/31/12
Latvia: Steel Concrete Reinforcing Bars, A-449-804 | 9/1/11—8/31/12
Mexico: Certain Magnesia Carbon Bricks, A-201-837 | 9/1/11—8/31/12
Moldova: Steel Concrete Reinforcing Bars, A-841-804 | 9/1/11—8/31/12
Poland: Steel Concrete Reinforcing Bars, A-455-803 | 9/1/11—8/31/12
Republic of Korea: Stainless Steel Wire Rod, A-580-829 | 9/1/11—8/31/12
Spain: Stainless Steel Wire Rod, A-469-807 | 9/1/11—8/31/12
Taiwan:
Narrow Woven Ribbons With Woven Selvedge, A-583-844 | 9/1/11—8/31/12
Raw Flexible Magnets, A583-842 | 9/1/11—8/31/12
Stainless Steel Wire Rod, A-583-828 | 9/1/11—8/31/12
The People's Republic of China:
Certain Lined Paper Products, A-570-901 | 9/1/11—8/31/12
Certain Magnesia Carbon Bricks, A-570-954 | 9/1/11—8/31/12
Foundry Coke, A-570-862 | 9/1/11—8/31/12
Freshwater Crawfish Tailmeat, A-570-848 | 9/1/11—8/31/12
Kitchen Appliance Shelving and Racks, A-570-941 | 9/1/11—8/31/12
Narrow Woven Ribbons With Woven Selvedge, A-570-952 | 9/1/11—8/31/12
New Pneumatic Off-The-Road Tires, A-570-912 | 9/1/11—8/31/12
Raw Flexible Magnets, A-570-922 | 9/1/11—8/31/12
Steel Concrete Reinforcing Bars, A-570-860 | 9/1/11—8/31/12
Ukraine:
Silicomanganese,²A-823-805 | 9/1/11—8/31/12
Solid Agricultural Grade Ammonium Nitrate, A-823-810 | 9/1/11—8/31/12
Steel Concrete Reinforcing Bars, A-823-809 | 9/1/11—8/31/12
Countervailing Duty Proceedings
India: Certain Lined Paper Products, C-533-844 | 1/1/11—12/31/11
Indonesia: Certain Lined Paper Products, C-560-819 | 1/1/11—12/31/11
The People's Republic of China:
Certain Magnesia Carbon Bricks, C-570-955 | 1/1/11—12/31/11
Kitchen Appliance Shelving and Racks, C-570-942 | 1/1/11—12/31/11
Narrow Woven Ribbons With Woven Selvedge, C-570-953 | 1/1/11—12/31/11
New Pneumatic Off-The-Road Tires, C-570-913 | 1/1/11—12/31/11
Raw Flexible Magnets, C-570-923 | 1/1/11—12/31/11
Suspension Agreements
Argentina: Lemon Juice, A-357-818 | 9/1/11—8/31/12
Mexico: Lemon Juice, A-201-835 | 9/1/11—8/31/12

In accordance with 19 CFR 351.213(b), an interested party as defined by section 771(9) of the Act may request in writing that the Secretary conduct an administrative review. For both antidumping and countervailing duty reviews, the interested party must specify the individual producers or exporters covered by an antidumping finding or an antidumping or countervailing duty order or suspension agreement for which it is requesting a review. In addition, a domestic interested party or an interested party described in section 771(9)(B) of the Act must state why it desires the Secretary to review those particular producers or exporters.³ If the interested party intends for the Secretary to review sales of merchandise by an exporter (or a producer if that producer also exports merchandise from other suppliers) which were produced in more than one country of origin and each country of origin is subject to a separate order, then the interested party must state specifically, on an order-by-order basis, which exporter(s) the request is intended to cover.

³ If the review request involves a non-market economy and the parties subject to the review request do not qualify for separate rates, all other exporters of subject merchandise from the non-market economy country who do not have a separate rate will be covered by the review as part of the single entity of which the named firms are a part.

Please note that, for any party the Department was unable to locate in prior segments, the Department will not accept a request for an administrative review of that party absent new information as to the party's location. Moreover, if the interested party who files a request for review is unable to locate the producer or exporter for which it requested the review, the interested party must provide an explanation of the attempts it made to locate the producer or exporter at the same time it files its request for review, in order for the Secretary to determine if the interested party's attempts were reasonable, pursuant to 19 CFR 351.303(f)(3)(ii).

As explained in Antidumping and Countervailing Duty Proceedings: Assessment of Antidumping Duties, 68 FR 23954 (May 6, 2003), the Department has clarified its practice with respect to the collection of final antidumping duties on imports of merchandise where intermediate firms are involved. The public should be aware of this clarification in determining whether to request an administrative review of merchandise subject to antidumping findings and orders. See also the Import Administration Web site at http://ia.ita.doc.gov.

All requests must be filed electronically in Import Administration's Antidumping and Countervailing Duty Centralized Electronic Service System (“IA ACCESS”) on the IA ACCESS Web site at http://iaaccess.trade.gov. See Antidumping and Countervailing Duty Proceedings: Electronic Filing Procedures; Administrative Protective Order Procedures, 76 FR 39263 (July 6, 2011). Further, in accordance with 19 CFR 351.303(f)(l)(i), a copy of each request must be served on the petitioner and each exporter or producer specified in the request.

The Department will publish in the Federal Register a notice of “Initiation of Administrative Review of Antidumping or Countervailing Duty Order, Finding, or Suspended Investigation” for requests received by the last day of September 2012. If the Department does not receive, by the last day of September 2012, a request for review of entries covered by an order, finding, or suspended investigation listed in this notice and for the period identified above, the Department will instruct CBP to assess antidumping or countervailing duties on those entries at a rate equal to the cash deposit of (or bond for) estimated antidumping or countervailing duties required on those entries at the time of entry, or withdrawal from warehouse, for consumption and to continue to collect the cash deposit previously ordered.

For the first administrative review of any order, there will be no assessment of antidumping or countervailing duties on entries of subject merchandise entered, or withdrawn from warehouse, for consumption during the relevant provisional-measures “gap” period, of the order, if such a gap period is applicable to the period of review.

This notice is not required by statute but is published as a service to the international trading community.

Dated: August 10, 2012.
Gary Taverman,
Senior Advisor for Antidumping and Countervailing Duty Operations.

[FR Doc. 2012-21733 Filed 8-31-12; 8:45 am]

BILLING CODE 3510-DS-P